FEDERAL MARITIME COMMISSION

Notice of Agreements Filed

The Commission hereby gives notice of the filing of the following agreements under the Shipping Act of 1984. Interested parties may submit comments on agreements to the Secretary, Federal Maritime Commission, Washington, DC 20573, within ten days of the date this notice appears in the Federal Register. Copies of agreements are available through the Commission's Office of Agreements (202-523-5793 or tradeanalysis@fmc.gov).

Agreement No.: 011602-011.

Title: Grand Alliance Agreement II.

Parties: Hapag-Lloyd AG; Hapag-Lloyd USA LLC; Nippon Yusen Kaisha; Orient Overseas Container Line, Inc.; Orient Overseas Container Line Limited; and Orient Overseas Container Line (Europe) Limited.

Filing Party: Wayne R. Rohde, Esq.; Sher & Blackwell; 1850 M Street, NW.; Suite 900; Washington, DC 20036.

Synopsis: The amendment extends the agreement for ten years. It would also increase the number and size of vessels the parties are authorized to deploy, clarify the parties' use of space, delete the minimum service duration, and reduce the notice required for membership withdrawals. The parties request expedited review.

Agreement No.: 201048-002.

Title: Restated Lease and Operating Agreement between PRPA and DRS.

Parties: Philadelphia Regional Port Authority and Delaware River Stevedores, Inc.

Filing Party: Paul D. Coleman, Esq.; Hoppel, Mayer & Coleman; 1000 Connecticut Avenue, NW.; Washington, DC 20036.

Synopsis: The amendment changes the insurance language of the lease.

By Order of the Federal Maritime Commission.
Dated: November 21, 2007.
Karen V. Gregory,
Assistant Secretary.

[FR Doc. E7-23060 Filed 11-26-07; 8:45 am]

BILLING CODE 6730-01-P